DEPARTMENT OF ENERGY

Western Area Power Administration

Boulder Canyon Project—Post-2017 Resource Pool

AGENCY: Western Area Power Administration, DOE.

ACTION: Notice of Proposed Allocation.

SUMMARY: The Western Area Power Administration (Western), a Federal power marketing agency of the Department of Energy (DOE), announces the Boulder Canyon Project (BCP) Post-2017 Resource Pool Proposed Allocation of Power (BCP Proposed Allocation) developed under the Conformed Power Marketing Criteria or Regulations for the Boulder Canyon Project (2012 Conformed Criteria) published in the Federal Register on June 14, 2012, as required by the Hoover Power Allocation Act of 2011, and Western's final BCP post-2017 marketing criteria and call for applications published in the Federal Register on December 30, 2013. Applications received by March 31, 2014, were considered for an allocation. Western will prepare and publish the Final Allocation of Power in the Federal Register after the close of the comment period provided for in this Federal Register notice and consideration of all submitted public comments.

DATES: Entities interested in commenting on the BCP Proposed Allocation may submit written comments using the methods set out in the ADDRESSES section. Western will accept written comments received on or before September 19, 2014.

Western will hold three public information forums on the BCP Proposed Allocation. The dates for the public information forums are:

1. August 26, 2014, 1 p.m., PDT, Las Vegas, Nevada.

2. August 27, 2014, 10 a.m., PDT, Ontario, California.

3. August 28, 2014, 10 a.m., MST, Tempe, Arizona.

Following the public information forums, Western will hold three public comment forums. The dates for the public comment forums are:

1. September 16, 2014, 1 p.m., PDT, Las Vegas, Nevada.

2. September 17, 2014, 10 a.m., PDT, Ontario, California.

3. September 18, 2014, 10 a.m., MST, Tempe, Arizona.

ADDRESSES: Written comments regarding the BCP Proposed Allocation should be sent to: Mr. Ronald E. Moulton, Acting Regional Manager, Desert Southwest Customer Service Region, Western Area Power Administration, P.O. Box 6457, Phoenix, AZ 85005-6457. Comments may also be faxed to (602) 605-2490 or emailed to Post2017BCP@wapa.gov.

The public information and public comment forums will be held at: The New Las Vegas Tropicana, 3801 Las Vegas Boulevard South, Las Vegas, Nevada; DoubleTree Ontario Airport, 222 N. Vineyard, Ontario, California; DoubleTree by Hilton Hotel Phoenix Tempe, 2100 S. Priest Drive, Tempe, Arizona.

FOR FURTHER INFORMATION CONTACT: Mr. Mike Simonton, Public Utilities Specialist, Desert Southwest Customer Service Region, Western Area Power Administration, P.O. Box 6457, Phoenix, AZ 85005-6457, telephone number (602) 605-2675, email Post2017BCP@wapa.gov. Comments received in response to this Federal Register notice will be posted to Western's Web site at http://www.wapa.gov/dsw/pwrmkt.

SUPPLEMENTARY INFORMATION: The BCP was authorized by the Boulder Canyon Project Act of 1928 (43 U.S.C. 617) (BCPA). Under Section 5 of the BCPA, the Secretary of the Interior marketed the capacity and energy from the BCP under electric service contracts effective through May 31, 1987. In 1977, the power marketing functions of the Secretary of the Interior were transferred to Western by Section 302 of the Department of Energy Organization Act (42 U.S.C. 7152) (DOE Act). On December 28, 1984, Western published the Conformed General Consolidated Criteria or Regulations for Boulder City Area Projects (1984 Conformed Criteria) (49 FR 50582) to implement applicable provisions of the Hoover Power Plant Act of 1984 (43 U.S.C. 619) for the marketing of BCP power through September 30, 2017.

On December 20, 2011, Congress enacted the Hoover Power Allocation Act of 2011 (43 U.S.C. 619a) (HPAA), which provides direction and guidance in marketing BCP power after the existing contracts expire on September 30, 2017. On June 14, 2012, Western published the 2012 Conformed Criteria (77 FR 35671) to implement applicable provisions of the HPAA for the marketing of BCP power from October 1, 2017, through September 30, 2067. The 2012 Conformed Criteria formally established a resource pool defined as “Schedule D” to be allocated to new allottees. In accordance with the HPAA, Western allocated portions of Schedule D power to the Arizona Power Authority (APA) and the Colorado River Commission of Nevada (CRC), as described in the June 14, 2012, Federal Register notice. Of the remaining Schedule D power, Western is to allocate 11,510 kilowatts (kW) of contingent capacity and associated firm energy to new allottees within the State of California, and 69,170 kW of contingent capacity and associated firm energy to new allottees within the Boulder City Area (BCA) marketing area as defined in the 2012 Conformed Criteria.

After conducting a public process and in consideration of comments received, Western published final marketing criteria (78 FR 79436) and made a call for applications on December 30, 2013. Applications from those seeking an allocation of Schedule D power from Western were due on March 31, 2014. The BCP Proposed Allocation was determined by applying the final marketing criteria to the applications received during the call for applications. Western seeks comments on the proposed allocations during this comment period.

Proposed Power Allocation

Western received 107 applications for Schedule D power. The final marketing criteria provide Native American tribes first consideration for an allocation of Schedule D sufficient to provide Federal hydropower up to 25 percent of their peak load when considering the amount of their load already served by existing Federal power resource allocations. Western received 33 applications from Native American tribes and 74 applications from non-tribal entities.

The BCP Proposed Allocation was established by applying the final marketing criteria. The 69,170 kW to be marketed in the BCA marketing area was distributed first. Application of the first consideration for Native American tribes resulted in 28,970 kW of contingent capacity to tribes. The remaining 40,200 kW was distributed to eligible applicants pro-rata based on peak load while normalizing the percentage of the applicants' peak loads served by Federal hydropower. The 11,510 kW to be marketed in the State of California was distributed to eligible California applicants pro-rata based on peak load while normalizing the percentage of the applicants' peak loads served by Federal hydropower inclusive of distributions of the 69,170 kW.

Capacity from the Post-2017 Resource Pool was allocated to eligible applicants under the final marketing criteria. Associated energy was determined by a pro-rata distribution to the allocated capacity consistent with HPAA Schedule D.

The BCP Proposed Allocation is as follows:

Boulder Canyon project: Allottee | Proposed post-2017 power allocations: Contingent capacity (kW) | Proposed post-2017 power allocations: Firm energy (kWh): Summer | Proposed post-2017 power allocations: Firm energy (kWh): Winter | Proposed post-2017 power allocations: Firm energy (kWh): Total
Agua Caliente Band of Cahuilla Indians | 1,449 | 2,212,925 | 950,554 | 3,163,479
Ann Electric Cooperative, Inc. | 1,836 | 2,803,827 | 1,201,670 | 4,005,497
Augustine Band of Cahuilla Indians | 224 | 341,787 | 146,814 | 488,601
Bishop Paiute Tribe | 380 | 580,896 | 249,522 | 830,418
Cabazon Band of Mission Indians | 1,001 | 1,529,415 | 656,955 | 2,186.370
California Department of Water Resources | 3,000 | 4,581,625 | 1,968,021 | 6,549,646
Chemehuevi Indian Tribe | 1,386 | 2,116,664 | 909,206 | 3,025.870
City of Cerritos, California | 3,000 | 4,581,918 | 1,965,197 | 6,547,115
City of Chandler, AZ Municipal Utilities Department | 830 | 1,267,957 | 544,646 | 1,812,604
City of Corona, California | 3,000 | 4,582,103 | 1,963,423 | 6,545,526
City of Flagstaff, Arizona | 214 | 326,211 | 140,123 | 466,334
City of Glendale, Arizona | 525 | 801,670 | 344,355 | 1,146,025
City of Globe, Arizona | 151 | 230,255 | 98,905 | 329,160
City of Henderson, Nevada | 865 | 1,321,594 | 567,686 | 1,889,280
City of Las Vegas, Nevada | 1,117 | 1,705,672 | 732,665 | 2,438,337
City of North Las Vegas, Nevada | 253 | 386,274 | 165,923 | 552,197
City of Payson, Arizona | 149 | 227,025 | 97,518 | 324,542
City of Peoria, Arizona | 435 | 664,186 | 285,299 | 949,485
City of Phoenix, Arizona | 3,000 | 4,581,625 | 1,968,021 | 6,549,646
City of Rancho Cucamonga, CA Municipal Utility | 3,000 | 4,581,920 | 1,965,183 | 6,547,103
City of Scottsdale, Arizona | 2,755 | 4,207,817 | 1,807,453 | 6,015,270
City of Tempe, AZ Public Works Department | 257 | 391,907 | 168,342 | 560,249
City of Tucson, Arizona Water Department | 1,501 | 2,292,297 | 984,648 | 3,276,945
City of Victorville, California | 2,901 | 4,431,073 | 1,900,234 | 6,331,307
Clark County School District | 3,000 | 4,581,625 | 1,968,021 | 6,549,646
Clark County Water Reclamation District | 741 | 1,132,024 | 486,257 | 1,618,281
College of Southern Nevada | 446 | 680,761 | 292,418 | 973,179
Duncan Valley Electric Cooperative, Inc. | 135 | 206,289 | 88,611 | 294,900
Fort McDowell Yavapai Nation | 338 | 516,596 | 221,902 | 738,497
Gila River Indian Community | 838 | 1,279,092 | 549,429 | 1,828,521
Graham County Electric Cooperative, Inc. | 556 | 848,804 | 364,601 | 1,213,405
Hualapai Indian Tribe | 381 | 581,402 | 249,739 | 831,142
Imperial Irrigation District | 3,000 | 4,581,625 | 1,968,021 | 6,549,646
Kaibab Band of Paiute Indians | 124 | 189,374 | 81,345 | 270,719
Las Vegas Paiute Tribe | 592 | 904,123 | 388,363 | 1,292,485
Las Vegas Valley Water District | 3,000 | 4,581,625 | 1,968,021 | 6,549,646
Metropolitan Domestic Water Improvement District | 105 | 159,687 | 68,593 | 228,280
Mohave Electric Cooperative, Inc. | 2,878 | 4,395,963 | 1,888,270 | 6,284,233
Morongo Band of Mission Indians | 1,098 | 1,677,459 | 720,547 | 2,398,005
Navajo Tribal Utility Authority | 3,000 | 4,581,625 | 1,968,021 | 6,549,646
Navopache Electric Cooperative, Inc. | 610 | 931,473 | 400,111 | 1,331,584
Northern Arizona Irrigation District Power Pool | 306 | 467,490 | 200,809 | 668,298
Pascua Yaqui Tribe | 217 | 330,693 | 142,048 | 472,741
Pechanga Band of Luiseno Mission Indians | 2,000 | 3,054,583 | 1,312,085 | 4,366,668
Salt River Pima-Maricopa Indian Community | 3,000 | 4,581,625 | 1,968,021 | 6,549,646
San Diego County Water Authority | 1,757 | 2,683,309 | 1,150,718 | 3,834,026
San Luis Rey River Indian Water Authority | 3,000 | 4,581,625 | 1,968,021 | 6,549,646
San Manuel Band of Mission Indians | 2,554 | 3,901,025 | 1,675,672 | 5,576,697
State of Nevada Department of Corrections | 186 | 283,682 | 121,855 | 405,536
Sulphur Springs Valley Electric Cooperative, Inc. | 3,000 | 4,581,625 | 1,968,021 | 6,549,646
Timbisha Shoshone Tribe | 119 | 181,190 | 77,830 | 259,020
Tohono O'odham Nation | 2,709 | 4,137,589 | 1,777,287 | 5,914,876
Tonto Apache Tribe | 195 | 298,187 | 128,085 | 426,273
Torres Martinez Desert Cahuilla Indians | 1,657 | 2,531,217 | 1,087,275 | 3,618,493
Trico Electric Cooperative, Inc. | 3,000 | 4,581,625 | 1,968,021 | 6,549,646
Twenty-Nine Palms Band of Mission Indians | 1,319 | 2,014,467 | 865,307 | 2,879,774
University of Nevada, Las Vegas | 202 | 308,732 | 132,615 | 441,347
Viejas Band of Kumeyaay Indians | 1,388 | 2,120,147 | 910,702 | 3,030,849
Total | 80,680 | 123,217,000 | 52,909,000 | 176,126,000

After applying the criteria to eligible applications received, the following applicants have not been assigned a proposed allocation due to the following reasons:

Amount of Peak Load Already Served by Federal Hydropower

Ak-Chin Indian Community;

Central Arizona Irrigation & Drainage District;

City of Maricopa, Arizona;

City of Mesa, Arizona;

City of Mesquite, Nevada;

City of Needles, California;

City of Page, Arizona Water Utility;

City of Williams, Arizona;

Colorado River Indian Tribes;

Fort Mohave Indian Tribe;

Hohokam Irrigation & Drainage District;

Hyder Valley Irrigation & Water Delivery District;

Maricopa-Standfield Irrigation & Drainage District;

Moapa Band of Paiutes;

Moapa Valley Water District;

Mt. Wheeler Power Inc.;

New Magma Irrigation & Drainage District;

Nye County, Nevada;

Paloma Irrigation & Drainage District;

San Carlos Apache Tribe;

State of Nevada Department of Veterans Sevices;

Town of Fredonia, Arizona;

Town of Gilbert, Arizona;

Virgin Valley Water District;

White Mountain Apache Tribe.

Potential Allocation Does Not Meet 100 kW Minimum

Arizona Rural Irrigation District Pooling Parties;

Avra Water Co-op, Inc.;

Board of Regents, Nevada State College;

City of Sedona, Arizona;

City of Sierra Vista, Arizona;

Desert Research Institute;

Division of Museums & History, Lost City Museum;

Ewiiaapaayp Band of Kumeyaay Indians;

Grover's Hill Irrigation District;

Havasupai Tribe;

Henderson District Public Libraries;

Mohave Valley Irrigation & Dainage District;

State of Nevada Department of Administration;

State of Nevada Department of Employment;

State of Nevada Department of Health & Human Services;

State of Nevada Department of Transportation;

State of Nevada Division of State Parks & Division of Forestry;

State of Nevada, Office of the Military;

Yavapai-Apache Nation.

Two applicants did not provide sufficient historical load information to receive further consideration for an allocation and three applicants did not meet the general eligibility requirements. The Red Rock Agricultural Improvement and Power District Irrigation Water Delivery District of Pinal County, and the Pauma Band of Mission Indians failed to submit suitable historical load information for consideration in their application. The Silverbell Irrigation and Drainage District is a direct allottee of the APA for BCP power and therefore is not considered a new allottee eligible for Schedule D. The San Carlos Irrigation Project and the Department of Energy National Nuclear Security Administration are Federal agencies and are not considered eligible under Section 5 of the BCPA.

Regulatory Procedure Requirements

Determination Under Executive Order 12866

Western has an exemption from centralized regulatory review under Executive Order 12866; accordingly, no clearance of this notice by the Office of Management and Budget is required.

Environmental Compliance

In accordance with the DOE National Environmental Policy Act Implementing Procedures (10 CFR 1021), Western has determined that these actions fit within a class of action B4.1 Contracts, policies, and marketing and allocation plans for electric power, in Appendix B to Subpart D to Part 1021—Categorical Exclusions Applicable to Specific Agency Actions.

Dated: July 30, 2014.
Mark A. Gabriel,
Administrator.

[FR Doc. 2014-18797 Filed 8-7-14; 8:45 am]

BILLING CODE 6450-01-P